DEPARTMENT OF TRANSPORTATION

Federal Aviation Administration

Intent To Prepare an Environmental Impact Statement and Hold Scoping Meetings for Mammoth Yosemite Airport, Mammoth Lakes, CA

AGENCY: Federal Aviation Administration.

ACTION: Notice to hold one (1) public scoping meeting and one (1) governmental and public agency scoping meeting.

SUMMARY: The Federal Aviation Administration (FAA) is issuing this notice to advise the public that an Environmental Impact Statement (EIS) will be prepared for the proposed expansion of Mammoth Yosemite Airport, Mammoth Lakes, California. To ensure that all significant issues related to the proposed action are identified, one (1) public scoping meeting and one (1) governmental and public agency scoping meeting will be held.

FOR FURTHER INFORMATION CONTACT: Camille Garibaldi, Environmental Protection Specialist, San Francisco Airports District Office, Federal Aviation Administration, Western-Pacific Region, 831 Mitten Road, Room 210, Burlingame, California 94010-1303. Telephone: 650/876-2927. Comments on the scope of the EIS should be submitted to the address above and must be received no later than 5 p.m. Pacific Standard Time, on Monday, December 29, 2003.

SUPPLEMENTARY INFORMATION: The FAA will prepare an EIS for the proposed future expansion of Mammoth Yosemite Airport. Proposed expansion of Mammoth Yosemite Airport has been the subject of a series of environmental analyses pursuant to the National Environmental Policy Act of 1969 (NEPA) and the California Environmental Quality Act of 1970 (CEQA). A Draft Environmental Assessment (EA) was prepared and issued on the current Proposed Airport Expansion Project in October 2000. A Final EA for the Mammoth Yosemite Airport Expansion Project was published in December 2000. The FAA approved the Final EA as a Federal document and issued a Finding of No Significant Impact (FONSI) on December 21, 2000. The Town of Mammoth Lakes issued a Draft Supplement to Subsequent Environmental Impact Report of the 1997 Environmental Impact Report in October 2001. The Final Supplement to Subsequent Environmental Impact Report was certified by the Town of Mammoth Lakes on March 6, 2002. Following FAA's approval of the FONSI in December 2000, additional and supplemental information regarding the proposed project became available. On July 29, 2002, the FAA issued its Record of Decision that re-examined the December 21, 2000, FONSI, and approved the Town of Mammoth Lakes' proposed expansion plan for the airport. Subsequent to the publication of FAA's Record of Decision, litigation was filed against the FAA in two civil cases numbered C02-04621 BZ and C02-04623 BZ in the United States District Court for the Northern District of California. On April 28, 2003, an opinion was issued that requires the FAA to prepare an EIS to further evaluate the Town of Mammoth Lakes' proposed expansion project for Mammoth Yosemite Airport.

Mammoth Yosemite Airport is a limited certificate airport (title 14, Code of Federal Regulations (CFR) § 39.209(a)). The airport is located approximately five miles east of the Town of Mammoth Lakes and north of U.S. Route 395 in Mono County. The airport has one east-west oriented runway (9/27) with a parallel and connecting taxiway system. Runway 9/27 is paved with asphalt and is 7,000 feet long by 100 feet wide. The airport has a field elevation of 7,128-feet above mean sea level. The airport accommodates general aviation aircraft operations including aircraft hangars and outdoor tiedowns. The airport provides facilities that can accommodate commercial airlines, commuter airlines, and airline support/maintenance. The airport has approximately 40-based aircraft and accommodates approximately 6,000 annual aircraft operations.

The FAA is the lead agency responsible for the preparation of the EIS.

The following Alternatives are proposed to be evaluated in the EIS, additional reasonable alternatives may be evaluated in the EIS as a result of the scoping process.

No Action Alternative: This alternative consists of not implementing any of the Expansion Project's elements. No new development items identified in the Expansion Project would be constructed or implemented.

Proposed Airport Expansion Project Alternative: This alternative consists of implementing the Town of Mammoth Lakes' Proposed Airport Expansion Project including demolition, construction and replacement of various facilities of the airport, primarily in the vicinity of the passenger terminal area and the runway. The primary feature of this alternative is the construction of a 1,200-foot runway extension to the west and widening of the runway 50-feet for a total runway length of 8,200-feet and width of 150-feet. This would require the Town of Mammoth Lakes to purchase the property or obtain a special use permit from the United States Forest Service (USFS) for the additional 25-feet of land to the south and 25-feet of land to the west of Airport property for the runway safety area. A new passenger terminal building and associated facilities would also be constructed. This alternative was identified in the Final EA as the Proposed Action.

A 9,000-Foot Runway Alternative: This alternative extends Runway 9/27 to the west by 2,000 feet to achieve a total runway length of 9,000 feet. Similar to the Proposed Airport Expansion Project this alternative also widens the existing runway from 100-feet to 150-feet, and includes construction of a new passenger terminal building and associated facilities. This would require the Town of Mammoth Lakes to purchase the property or obtain a special use permit from the USFS for the additional 25-feet of land to the south and 825-feet or land to the west of Airport property for the runway safety area.

Develop Another Airport in the Region: This alternative consists of developing the next nearest airport to the Town of Mammoth Lakes in Bishop, CA.

Use Alternative Modes of Transportation: This alternative would utilize other types of transportation modes such as rail, inter-city bus and automobiles to transport skier visitors to the area.

Develop a New Airport in the Region at a Different Site: This alternative consists of construction of a new airport facility instead of further developing the existing facility at Mammoth Yosemite Airport.

Comments and suggestions are invited from Federal, State and local agencies, and other interested parties to ensure that the full range of issues related to the proposed project and the alternatives are addressed and all significant issues are identified. Written comments and suggestions concerning the scope of the EIS may be mailed to the FAA informational contact listed above and must be received no later than 5 p.m., Pacific Standard Time, on Monday, December 29, 2003.

Public Scoping Meetings: The FAA will hold one (1) public and one (1) governmental and public agency scoping meeting to solicit input from the public and various Federal, State and local agencies which have jurisdiction by law or have specific expertise with respect to any environmental impacts associated with the proposed projects. A scoping meeting specifically for governmental and public agencies will be held on Wednesday, December 10, 2003, from 1 p.m. to 4 p.m., Pacific Standard Time, at the Mammoth Lakes Community Center, 1000 Forest Trail, Mammoth Lakes, California. The public scoping meeting will be held at the same location on Wednesday, December 10, 2003, from 6 p.m. to 9 p.m., Pacific Standard Time.

Issued in Hawthorne, California, on October 28, 2003.
Ellsworth L. Chan,
Acting Manager, Airports Division, Western-Pacific Region, AWP-600.

[FR Doc. 03-27756 Filed 11-4-03; 8:45 am]

BILLING CODE 4910-13-M